NUCLEAR REGULATORY COMMISSION

Draft Regulatory Guide: Issuance, Availability

The U.S. Nuclear Regulatory Commission (NRC) has issued for public comment a draft of a new guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft regulatory guide, entitled “Combined License Applications for Nuclear Power Plants (LWR Edition),” is temporarily identified by its task number, DG-1145, which should be mentioned in all related correspondence. This proposed regulatory guide contains guidance for use in submitting combined license (COL) applications in compliance with the Commission's regulations in Title 10 Part 52 of the Code of Federal Regulations (10 CFR Part 52), “Early Site Permits; Design Certifications; and Combined Licenses for Nuclear Power Plants.” Specifically, 10 CFR Part 52 governs the issuance of early site permits, standard design certifications, and combined licenses for nuclear power plants.

In February 1972, the NRC initially published Regulatory Guide 1.70, “Standard Format and Content of Safety Analysis Reports for Nuclear Power Plants (LWR Edition),” which the nuclear industry has since used in preparing applications for construction permits and operating licenses for new nuclear power plants. The NRC most recently revised Regulatory Guide 1.70 in November 1978 and, since that time, the Commission has established a new process for licensing new reactors. That process, described in detail in 10 CFR Part 52, allows an applicant to reference an early site permit (ESP), a design certification (DC), both, or neither, in a COL application. The NRC has developed Draft Regulatory Guide DG-1145 to provide guidance to applicants who plan to use this new process.

The NRC initially issued 10 CFR Part 52 in April 1989 to offer alternative licensing (ESP, standard DC, COL, and manufacturing license) processes for new nuclear power plants. More recently, the agency proposed a revision of the rule on March 13, 2006, (71 FR 12782), to clarify the applicability of various requirements to each of the licensing processes. This Draft Regulatory Guide, DG-1145, is based on the proposed revised rule. The specific requirements pertaining to technical requirements for content of applications are contained in proposed 10 CFR 52.79, “Contents of applications, general requirements” and proposed 10 CFR 52.80, “Contents of applications, additional technical information.” The final Regulatory Guide will be conformed to the final rule that is adopted by the Commission, and will be issued when that final rule is available.

At this time, the NRC staff is soliciting comments on Draft Regulatory Guide DG-1145. Comments may be accompanied by relevant information or supporting data, and should mention DG-1145 in the subject line. Comments submitted in writing or in electronic form will be made available to the public in their entirety through the NRC's Agencywide Documents Access and Management System (ADAMS). Personal information will not be removed from your comments. You may submit comments by any of the following methods.

Mail comments to: Rules and Directives Branch, Office of Administration, U.S. Nuclear Regulatory Commission, Washington, DC 20555-0001.

E-mail comments to: NRCREP@nrc.gov. You may also submit comments via the NRC's rulemaking Web site at http://ruleforum.llnl.gov/cgi-bin/rulemake?source=rg&st=draftrg. Address questions about our rulemaking Web site to Carol A. Gallagher at (301) 415-5905 or by e-mail to CAG@nrc.gov.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Draft Regulatory Guide DG-1145 may be directed to the NRC Project Manager, Eric Oesterle, at (301) 415-1365 or ERO1@nrc.gov.

Comments would be most helpful if received by October 21, 2006. Comments received after that date will be considered if it is practical to do so, but the NRC is able to ensure consideration only for comments received on or before this date. Although a time limit is given, comments and suggestions in connection with items for inclusion in guides currently being developed or improvements in all published guides are encouraged at any time.

Electronic copies of Draft Regulatory Guide DG-1145 are available through the NRC's public Web site under Draft Regulatory Guides in the Regulatory Guides document collection of the NRC's Electronic Reading Room at http://www.nrc.gov/reading-rm/doc-collections/. Electronic copies are also available in ADAMS (http://www.nrc.gov/reading-rm/adams.html), under Package Accession #ML061800499.

In addition, Draft Regulatory Guide DG-1145 and other related publicly available documents, including public comments received, can be viewed electronically on computers in the NRC's Public Document Room (PDR), which is located at 11555 Rockville Pike, Rockville, Maryland. The PDR reproduction contractor will make copies of documents for a fee. The PDR's mailing address is USNRC PDR, Washington, DC 20555-0001. The PDR can also be reached by telephone at (301) 415-4737 or (800) 397-4205, by fax at (301) 415-3548, and by e-mail to PDR@nrc.gov.

Please note that the NRC does not intend to distribute printed copies of Draft Regulatory Guide DG-1145, unless specifically requested on an individual basis. Such requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(5 U.S.C. 552(a))

Dated at Rockville, Maryland, this 1st day of September, 2006.
For the U.S. Nuclear Regulatory Commission.
Charles E. Ader,
Acting Director, Division of Risk Assessment and Special Projects, Office of Nuclear Regulatory Research.

[FR Doc. E6-14865 Filed 9-6-06; 8:45 am]

BILLING CODE 7590-01-P